DEPARTMENT OF AGRICULTURE

Submission for OMB Review; Comment Request

September 3, 2008.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Equal Opportunity Compliance Review Reporting Tool.

OMB Control Number: 0596-NEW.

Summary of Collection: All Federal agencies and the entities receiving Federal financial assistance are prohibited from discriminating in the delivery of programs and services. Agencies must comply with equal opportunity laws, Title VI of the Civil Rights Act of 1964, as amended; Title IX of the Education Amendments Act of 1972; The Age Discrimination Act of 1975, as amended; Section 504 of the Rehabilitation Act of 1973, as amended; and Executive orders prohibiting discrimination in the delivery of all programs and services to the public. The Federal government is required to conduct periodic program compliance reviews of recipients of Federal financial assistance to ensure they are adhering to the nondiscrimination statutes. Forest Service personnel integral to the pre-award and post-award process will collect this information during face-to-face meetings or telephone interviews.

Need and Use of the Information: Forest Service will use form FS-1700-6, “Equal Opportunity Compliance Review Record” to collect the information and document assisted program compliance. Data collected includes information on actions taken by recipients to ensure the public receives service without discrimination or barriers to access and the recipients' employees understand their customer service responsibilities. The information collected is for internal use only and is utilized to establish and monitor civil rights compliance.

Description of Respondents: Business or other for-profit; Not-for-profit Institutions; State, Local or Tribal Government.

Number of Respondents: 2,978.

Frequency of Responses: Recordkeeping; Reporting: On occasion.

Total Burden Hours: 3,427.

Forest Service

Title: Federal and Non-Federal Financial Assistance Instruments.

OMB Control Number: 0596-NEW.

Summary of Collection: In order to carry out specific Forest Service (FS) activities, Congress created several authorities to assist the Agency in carrying out its mission. Authorized by the Federal Grants and Cooperative Agreements Act, the FS issues Federal Financial Assistance awards, (i.e., grants and cooperative agreements). Agency specific authorities and appropriations also support use of Federal Financial Assistance awards. Information is collected from individuals; non-profit and for-profit institutions; institutions of higher education and state, local, and Native American tribal governments etc. Multiple options are available for respondents to respond including forms, non-forms, electronically, face-to-face, by telephone and over the Internet.

Need and Use of the Information: From the pre-award to the close-out stage, FS will collect information from respondents on forms, via e-mails, meetings, and telephone calls. Using various forms respondents will describe the type of project, project scope, financial plan and other factors. Without this information the FS would not be able to develop, implement, monitor and administer these agreements.

Description of Respondents: Business or other for-profit; Not-for-profit Institutions; State, Local or Tribal Government.

Number of Respondents: 3,586.

Frequency of Responses: Recordkeeping; Reporting: On occasion.

Total Burden Hours: 23,445.

Charlene Parker,
Departmental Information Collection Clearance Officer.

[FR Doc. E8-20793 Filed 9-8-08; 8:45 am]

BILLING CODE 3410-11-P